DEPARTMENT OF COMMERCE

National Oceanic and Atmospheric Administration

50 CFR Part 660

[Docket No. 021209300-3048-02; I.D. 100303B]

Fisheries off West Coast States and in the Western Pacific; Pacific Coast Groundfish Fishery; Annual Specifications and Management Measures; Trip Limit Adjustments; Corrections

AGENCY: National Marine Fisheries Service (NMFS), National Oceanic and Atmospheric Administration (NOAA), Commerce.

ACTION: Inseason adjustments to trip limits and rockfish conservation areas; corrections; request for comments.

SUMMARY: NMFS announces changes to trip limits and trawl rockfish conservation areas (RCAs) for the Pacific Coast groundfish fishery. Trip limit adjustments include changes to the limited entry trawl Dover sole, thornyhead, and sablefish (DTS) limits coastwide; limits for limited entry midwater trawl widow rockfish coastwide and yellowtail rockfish north of 40°10 N. lat.; and the limited entry fixed gear and open access sablefish limits north of 36° N. lat. This inseason action also implements coordinates for the previously scheduled western, seaward boundary line for the trawl RCA which approximates the 200-fm depth contour as modified to accommodate petrale sole fishing grounds during November and December. For the trawl “A” platoon, trip limit adjustments and RCAs will be effective November 1, 2003. Inseason adjustments to trip limits and RCAs for the trawl “B” platoon will be effective November 16, 2003. These actions, which are authorized by the Pacific Coast Groundfish Fishery Management Plan (FMP), will allow fisheries access to more abundant groundfish stocks while protecting overfished and depleted stocks. This action also contains a correction to the trip limits for the limited entry midwater trawl fishery for widow rockfish and whiting.

DATES: Changes to management measures are effective 0001 hours (local time) October 24, 2003, until the 2004 annual specifications and management measures are effective, unless modified, superseded, or rescinded through a publication in the Federal Register. Comments on this rule will be accepted through November 24, 2003.

ADDRESSES: Submit comments to D. Robert Lohn, Administrator, Northwest Region, NMFS, 7600 Sand Point Way NE, Seattle, WA 98115-0070; or Rod McInnis, Acting Administrator, Southwest Region, NMFS, 501 West Ocean Blvd, Suite 4200, Long Beach, CA 90802-4213.

FOR FURTHER INFORMATION CONTACT: Jamie Goen or Carrie Nordeen (Northwest Region, NMFS), phone: 206-526-6140; fax: 206-526-6736; and e-mail: jamie.goen@noaa.gov or carrie.nordeen@noaa.gov.

SUPPLEMENTARY INFORMATION:

Electronic Access

This Federal Register document is available on the Government Printing Office′s website at: http://www.access.gpo.gov/su_docs/ca/docs/aces/aces140.html. Background information and documents are available at the NMFS Northwest Region website at: http://www.nwr.noaa.gov/1sustfsh/gdfsh01.htm and at the Pacific Fishery Management Council′s website at: http://www.pcouncil.org.

Background

The Pacific Coast Groundfish FMP and its implementing regulations at 50 CFR part 660, subpart G, regulate fishing for over 80 species of groundfish off the coasts of Washington, Oregon, and California. Annual groundfish specifications and management measures are initially developed by the Pacific Fishery Management Council (Pacific Council), and are implemented by NMFS. The specifications and management measures for the 2003 fishing year (January 1 - December 31, 2003) were initially published in the Federal Register as an emergency rule for January 1 - February 28, 2003 (68 FR 908, January 7, 2003) and as a proposed rule for March 1 - December 31, 2003 (68 FR 936, January 7, 2003). The emergency rule was amended at 68 FR 4719, January 30, 2003, and the final rule for March 1 - December 31, 2003 was published in the Federal Register on March 7, 2003 (68 FR 11182). The final rule has been subsequently amended at 68 FR 18166 (April 15, 2003), at 68 FR 23901 (May 6, 2003), at 68 FR 23924 (May 6, 2003), at 68 FR 32680 (June 2, 2003), at 68 FR 35575 (June 16, 2003), at 68 FR 40187 (July 7, 2003), at 68 FR 42643 (July 18, 2003), at 68 FR 43473 (July 23, 2003), and at 68 FR 52703 (September 5, 2003).

The following changes to current groundfish management measures were recommended by the Pacific Council, in consultation with Pacific Coast Treaty Tribes and the States of Washington, Oregon, and California, at its September 8-12, 2003, meeting in Seattle, WA. Pacific Coast groundfish landings will be monitored throughout the year, and further adjustments will be made as necessary to allow achievement of or avoid exceeding the 2003 optimum yields (OYs) and allocations.

Limited Entry Trawl Limits for the DTS (Dover Sole, Thornyhead, Sablefish) Fishery Coastwide

In an effort to provide for fishing opportunity along the coast while keeping groundfish species within their respective 2003 OYs, the Pacific Council recommended trip limit adjustments for the DTS fishery for the November and December fishing period. Limited entry landed catch data through August 15, 2003, in the Pacific Fisheries Information Network (PacFIN) database, indicate that shortspine thornyhead catch was at 68 percent of the annual target (514 mt landed out of a 751 mt landed catch OY). Based on the reported landed catch through August 2003 and anticipated landed catch for the remainder of 2003 (Exhibit C.2.b, Supplemental NMFS Report, from the September 2003 Pacific Council meeting), approximately another 41 percent of the shortspine thornyhead catch (308 mt projected landings out of a 751-mt landed catch OY) is forecast to be taken over the remainder of the year. If landed catch continues as projected, shortspine thornyhead landings could be at 822 mt out of a 751-mt landed catch OY, exceeding the 2003 OY by 71 mt. For the other three species in the DTS complex, Dover sole, longspine thornyhead and sablefish, reported landed catch through August 2003 and anticipated landed catch for the remainder of 2003 (Exhibit C.2.b, Supplemental NMFS Report, from the September 2003 Pacific Council meeting) are under the OYs set for those species in 2003. Thus, shortspine thornyhead is the constraining species in the DTS complex at this time. Since the four species in the DTS complex are caught together, trip limits for all DTS complex species are being reduced during November and December to slow the catch of shortspine thornyhead in 2003. Trip limits north of 40°10′ N. lat. are larger for vessels using large footrope gear than for vessels using small footrope gear because large footrope gear is only permitted offshore of the RCAs, where DTS complex species are less likely to co-occur with overfished groundfish species.

Therefore, the limited entry trawl Dover sole limit north of 40°10′ N. lat. is decreased from the previously scheduled limit of 34,000 lb (15,422 kg) per 2 months to 30,000 lb (13,608 kg) per 2 months, providing that only large footrope or midwater trawl gear is used to land any groundfish species during the entire limit period. The limited entry small footrope trawl Dover sole limit, (i.e., if small footrope gear is used at any time in any area (north or south, seaward or shoreward of the RCA) during the entire limit period) is decreased from the previously scheduled limit of 12,500 lb (5,670 kg) per 2 months to 11,000 lb (4,990 kg) per 2 months. South of 40°10′ N. lat., the limited entry trawl Dover sole limit is decreased from the previously scheduled limit of 34,000 lb (15,422 kg) per 2 months to 30,000 lb (13,608 kg) per 2 months.

The limited entry trawl shortspine thornyhead limit north of 40°10′ N. lat. is decreased from the previously scheduled limit of 2,400 lb (1,089 kg) per 2 months to 900 lb (408 kg) per 2 months, providing that only large footrope or midwater trawl gear is used to land any groundfish species during the entire limit period. The limited entry small footrope trawl shortspine thornyhead limit, (i.e., if small footrope gear is used at any time in any area (north of south, seaward or shoreward of the RCA) during the entire limit period) is decreased from the previously scheduled limit of 1,000 lb (454 kg) per 2 months to 300 lb (136 kg) per 2 months. South of 40°10′ N. lat., the limited entry trawl shortspine thornyhead limit is decreased from the previously scheduled limit 2,400 lb (1,089 kg) per 2 months to 900 lb (408 kg) per 2 months.

In response to reduced trip limits for shortspine thornyhead and the need to maintain the catch ratio of 5 lb (2.27 kg) longspine thornyhead to 1 lb (0.45 kg) shortspine thornyhead, the Pacific Council also recommended an adjustment in longspine thornyhead trip limits. Therefore, the limited entry trawl longspine thornyhead limit north of 40°10′ N. lat. is decreased from the previously scheduled limit of 11,500 lb (5,216 kg) per 2 months to 4,500 lb (2,041 kg) per 2 months, providing that only large footrope or midwater trawl gear is used to land any groundfish species during the entire limit period. The limited entry small footrope trawl longspine thornyhead limit, (i.e., if small footrope gear is used at any time in any area (north of south, seaward or shoreward of the RCA) during the entire limit period) is decreased from the previously scheduled 5,000 lb (2,268 kg) per 2 months to 2,000 lb (907 kg) per 2 months. South of 40°10′ N. lat., the limited entry trawl longspine thornyhead limit is decreased from the previously scheduled limit of 11,500 lb (5,216 kg) per 2 months to 4,500 lb (2,041 kg) per 2 months. The limited entry trawl sablefish limit north of 40°10′ N. lat. is decreased from the previously scheduled limit of 9,000 lb (4,082 kg) per 2 months to 7,000 lb (3,175 kg) per 2 months, providing that only large footrope or midwater trawl gear is used to land any groundfish species during the entire limit period. The limited entry small footrope trawl sablefish limit, (i.e., if small footrope gear is used at any time in any area (north or south, seaward or shoreward of the RCA) during the entire limit period) is decreased from the previously scheduled limit of 3,000 lb (1,361 kg) per 2 months to 2,300 lb (1,043 kg) per 2 months. South of 40°10′ N. lat., the limited entry trawl sablefish limit is decreased from the previously scheduled limit of 9,000 lb (4,082 kg) per 2 months to 7,000 lb (3,175 kg) per 2 months.

Limited Entry Midwater Trawl Widow Rockfish Coastwide and Yellowtail Rockfish North of 40°10′ N. Lat.

Retention of widow rockfish coastwide and yellowtail rockfish north of 40°10′ N. lat. in the limited entry midwater trawl fisheries is being prohibited during November and December to reduce the potential for incidental catch of canary rockfish. Limited entry landed catch data through August 15, 2003, in PacFIN, indicate that the catch of canary rockfish was at 29 percent of the annual target (4 mt landed out of a 14 mt landed catch OY). However, total mortality of canary rockfish in all commercial, recreational, and experimental fisheries, including the trip limit adjustments in this inseason action, is estimated to be 43.5 mt out of a 44-mt total catch OY by the end of the year. Because canary rockfish co-occur with yellowtail and widow rockfish, opportunities for directed midwater widow and yellowtail rockfish fisheries are being eliminated to keep the total estimated mortality of canary rockfish within its total catch OY for 2003.

Therefore, limited entry midwater trawl fisheries for widow rockfish coastwide are being reduced during November and December from the previously scheduled 12,000 lb (5,443 kg) per 2 months to no retention (i.e., closed). Limited entry midwater trawl fisheries for yellowtail rockfish north of 40°10′ N. lat. are being reduced during November and December from the previously scheduled 18,000 lb (8,165 kg) per 2 months to no retention (i.e., closed).

Limited Entry Fixed Gear and Open Access Sablefish Limits North of 36° N. Lat.

Landed catch in the daily trip limit (DTL) fishery for sablefish north of 36° N. lat. is tracking behind schedule (i.e., the fishery will not attain the OY for 2003 if cumulative limits remain as previously scheduled). Total fleet landed catch data through September 12, 2003, in PacFIN, indicate that the non-trawl DTL sablefish fishery combined with the non-trawl primary sablefish fishery was at 66 percent of the annual target (1,667 mt landed out of a 2,518 mt landed catch OY). With an estimated 851 mt of the OY available for non-trawl sablefish fisheries and with the primary sablefish fishery ending on October 31, 2003, there is room for additional harvest opportunity in the DTL sablefish fishery. Thus, because sablefish catch in the DTL fishery is tracking behind schedule for the year and because the impact of this fishery on shortspine thornyhead is likely minimal, the DTL sablefish fishery north of 36° N. lat. will be increased during November and December from the previously scheduled 300 lb (136 kg) per day or one landing per week of up to 800 lb (363 kg), not to exceed 3,200 lb (1,452 kg) per 2 months to 300 lb (136 kg) per day or one landing per week of up to 900 lb (408 kg), not to exceed 3,600 lb (1,633 kg) per 2 months.

Limited Entry Fixed Gear and Open Access Minor Deeper Nearshore Rockfish Limits South of 40°10′ N. Lat.

At their September 8-12, 2003 meeting, the Pacific Council recommended increasing limited entry fixed gear and open access trip limits for minor deeper nearshore rockfish as soon as practicable after the Pacific Council meeting. The Pacific Council recommended the increase because commercial landings of minor deeper nearshore rockfish south of 40°10′ N. lat. were lower than expected in 2003. Minor deeper nearshore rockfish are managed within an overall harvest guideline for minor nearshore rockfish. The minor nearshore rockfish harvest guideline is shared between the commercial and recreational sectors. In addition, the minor nearshore rockfish harvest guideline is included as a subset of the minor rockfish OY. There are two minor rockfish OYs, one for the area north of 40°10′ N. lat. and one for the area south of 40°10′ N. lat.

Subsequent to the Pacific Council meeting, the Pacific Council′s Groundfish Management Team (GMT) held a meeting in Seattle, WA, October 14-16, 2003. The GMT discussed information from the Recreational Fisheries Information Network (RecFIN) at that meeting, which showed landings of minor nearshore rockfish in the recreational fishery south of 40°10′ N. lat. during July and August, the first two months open to recreational groundfish fishing, have exceeded the projected recreational landings of minor nearshore rockfish for the remainder of the year. The GMT raised concerns over the accuracy of RecFIN′s catch estimates since the estimates for July and August were substantially higher than in recent years. The GMT has requested that the RecFIN program review its estimates reported for the 2003 California recreational fishery.

While landings in the commercial sector south of 40°10′ N. lat. continue to remain lower than expected in 2003 (landed catch data through October 10, 2003, indicate that minor deeper nearshore rockfish catch was at 44 percent of the annual target 21 mt landed out of a 48 mt commercial total catch OY), combined recreational and commercial landings are still estimated to have exceeded the minor nearshore harvest guideline, even if RecFIN estimates are adjusted downward. The state of California intends to close recreational fishing for nearshore rockfish at the beginning of November.

In light of this new information, NMFS is not approving the Pacific Council′s September recommendation to increase minor deeper nearshore rockfish trip limits for the commercial sector (limited entry fixed gear and open access) south of 40°10′ N. lat. Because of the recent receipt of this information, NMFS does not have time to fully consider the information, determine what additional actions may be appropriate, and incorporate any additional actions into this Federal Register Notice. Attempting to incorporate additional actions into this notice would delay the other inseason adjustments contained in this action, which need to be implemented as soon as possible. However, NMFS will review the new information, and determine what additional action, if any, should be taken. Therefore, the limited entry fixed gear and open access minor deeper nearshore rockfish limit south of 40°10′ N. lat. remains as scheduled for the remainder of the September through October cumulative limit period at 300 lb (136 kg) per 2 months. During the months of November through December, the limited entry fixed gear and open access minor deeper nearshore rockfish limit south of 40°10′ N. lat. also remains as previously scheduled at 200 lb (91 kg) per 2 months, unless it is adjusted through a subsequent action.

Corrections

The limited entry midwater trawl fishery for widow rockfish during the primary season north of 40°10′ N. lat., Table 3 (North), is corrected in this inseason action to allow retention of widow rockfish during September through October up to the limits previously specified in the table for May though August. This allowance for widow rockfish retention during the primary whiting season was intended to be for May through October, the same time frame as the yellowtail rockfish allowance during the primary whiting season. This inseason action corrects Table 3 (North) for the limited entry midwater trawl fishery for widow rockfish north of 40°10′ N. lat. May through October to read, “During primary whiting season, in trips of at least 10,000 lb of whiting: combined widow and yellowtail limit of 500 lb/ trip, cumulative widow limit of 1,500 lb/ month.”

Similarly, the primary season for whiting is corrected coastwide (Table 3 (North) and Table 3 (South)) to reflect that it may extend from May through October, the same time frame as the yellowtail rockfish allowance during the primary whiting season. The primary whiting season begins on different dates for different sectors of the fishery, but generally extends from approximately April through quota attainment. Currently the mothership and catcher/processor sectors remain open with quota available. Therefore, to more accurately reflect the open season for the primary whiting season, this inseason action corrects Table 3 (North) and Table 3 (South) for whiting during May through October to read, “Primary Season (only mid-water trawl permitted within the RCA).”

NMFS Actions

For the reasons stated herein, NMFS concurs with all of the Pacific Council′s recommendations, except the recommendation to increase minor deeper nearshore limits south of 40°10′ N. lat., implemented herein and hereby announces the following changes to the 2003 specifications and management measures (68 FR 11182, March 7, 2003, as amended at 68 FR 18166, April 15, 2003, at 68 FR 23901, May 6, 2003, at 68 FR 23925, May 6, 2003, at 68 FR 32680, June 2, 2003, at 68 FR 35575, June 16, 2003), at 68 FR 40187, July 7, 2003, at 68 FR 42643, July 18, 2003, at 68 FR 43473, July 23, 2003, and at 68 FR 52703, September 5, 2003, to read as follows:

1. In section IV., under A. General Definitions and Provisions, paragraph (19)(e), section (xviii) is added to read as follows:

* * * * *

(xviii) The 200-fm (366-m) depth contour used between the U.S. border with Canada and the U.S. border with Mexico as a western boundary for the trawl RCA, modified to allow fishing for petrale in the winter months of January, February, November, and December, is defined by straight lines connecting all of the following points in the order stated:

(1) 48°14.75′ N. lat., 125°41.73′ W. long.;

(2) 48°12.85′ N. lat., 125°38.06′ W. long.;

(3) 48°11.52′ N. lat., 125°39.45′ W. long.;

(4) 48°10.14′ N. lat., 125°42.81′ W. long.;

(5) 48°08.96′ N. lat., 125°42.08′ W. long.;

(6) 48°08.33′ N. lat., 125°44.91′ W. long.;

(7) 48°07.19′ N. lat., 125°45.87′ W. long.;

(8) 48°05.66′ N. lat., 125°44.79′ W. long.;

(9) 48°05.91′ N. lat., 125°42.16′ W. long.;

(10) 48°04.11′ N. lat., 125°40.17′ W. long.;

(11) 48°04.07′ N. lat., 125°36.96′ W. long.;

(12) 48°03.05′ N. lat., 125°36.38′ W. long.;

(13) 48°01.98′ N. lat., 125°37.41′ W. long.;

(14) 48°01.46′ N. lat., 125°39.61′ W. long.;

(15) 47°57.00′ N. lat., 125°37.00′ W. long.;

(16) 47°55.50′ N. lat., 125°28.50′ W. long.;

(17) 47°57.88′ N. lat., 125°25.61′ W. long.;

(18) 48°01.63′ N. lat., 125°23.75′ W. long.;

(19) 48°02.21′ N. lat., 125°22.43′ W. long.;

(20) 48°03.60′ N. lat., 125°21.84′ W. long.;

(21) 48°03.98′ N. lat., 125°20.65′ W. long.;

(22) 48°03.26′ N. lat., 125°19.76′ W. long.;

(23) 48°01.49′ N. lat., 125°18.80′ W. long.;

(24) 48°01.03′ N. lat., 125°20.12′ W. long.;

(25) 48°00.04′ N. lat., 125°20.26′ W. long.;

(26) 47°58.10′ N. lat., 125°18.91′ W. long.;

(27) 47°58.17′ N. lat., 125°17.50′ W. long.;

(28) 47°52.28′ N. lat., 125°16.06′ W. long.;

(29) 47°51.92′ N. lat., 125°13.89′ W. long.;

(30) 47°49.20′ N. lat., 125°10.67′ W. long.;

(31) 47°48.69′ N. lat., 125°06.50′ W. long.;

(32) 47°46.54′ N. lat., 125°07.68′ W. long.;

(33) 47°47.24′ N. lat., 125°05.38′ W. long.;

(34) 47°45.95′ N. lat., 125°04.61′ W. long.;

(35) 47°44.58′ N. lat., 125°07.12′ W. long.;

(36) 47°42.24′ N. lat., 125°05.15′ W. long.;

(37) 47°38.54′ N. lat., 125°06.76′ W. long.;

(38) 47°34.86′ N. lat., 125°04.67′ W. long.;

(39) 47°30.75′ N. lat., 124°57.52′ W. long.;

(40) 47°28.51′ N. lat., 124°56.69′ W. long.;

(41) 47°29.15′ N. lat., 124°54.10′ W. long.;

(42) 47°28.43′ N. lat., 124°51.58′ W. long.;

(43) 47°24.13′ N. lat., 124°47.51′ W. long.;

(44) 47°18.31′ N. lat., 124°46.17′ W. long.;

(45) 47°19.57′ N. lat., 124°51.01′ W. long.;

(46) 47°18.12′ N. lat., 124°53.66′ W. long.;

(47) 47°17.59′ N. lat., 124°52.94′ W. long.;

(48) 47°17.71′ N. lat., 124°51.63′ W. long.;

(49) 47°16.90′ N. lat., 124°51.23′ W. long.;

(50) 47°16.10′ N. lat., 124°53.67′ W. long.;

(51) 47°14.24′ N. lat., 124°53.02′ W. long.;

(52) 47°12.16′ N. lat., 124°56.77′ W. long.;

(53) 47°13.35′ N. lat., 124°58.70′ W. long.;

(54) 47°09.53′ N. lat., 124°58.32′ W. long.;

(55) 47°09.54′ N. lat., 124°59.50′ W. long.;

(56) 47°05.87′ N. lat., 124°59.29′ W. long.;

(57) 47°03.65′ N. lat., 124°56.26′ W. long.;

(58) 47°00.91′ N. lat., 124°59.73′ W. long.;

(59) 46°58.74′ N. lat., 124°59.40′ W. long.;

(60) 46°58.55′ N. lat., 125°00.70′ W. long.;

(61) 46°55.57′ N. lat., 125°01.61′ W. long.;

(62) 46°55.77′ N. lat., 124°55.04′ W. long.;

(63) 46°53.16′ N. lat., 124°53.69′ W. long.;

(64) 46°52.39′ N. lat., 124°55.24′ W. long.;

(65) 46°44.88′ N. lat., 124°51.97′ W. long.;

(66) 46°33.28′ N. lat., 124°36.96′ W. long.;

(67) 46°33.20′ N. lat., 124°30.64′ W. long.;

(68) 46°27.85′ N. lat., 124°31.95′ W. long.;

(69) 46°18.16′ N. lat., 124°39.39′ W. long.;

(70) 46°16.48′ N. lat., 124°27.41′ W. long.;

(71) 46°16.73′ N. lat., 124°23.20′ W. long.;

(72) 46°14.13′ N. lat., 124°26.26′ W. long.;

(73) 46°12.81′ N. lat., 124°33.73′ W. long.;

(74) 46°12.86′ N. lat., 124°38.65′ W. long.;

(75) 46°10.81′ N. lat., 124°39.54′ W. long.;

(76) 46°09.78′ N. lat., 124°41.27′ W. long.;

(77) 46°06.44′ N. lat., 124°41.08′ W. long.;

(78) 46°03.79′ N. lat., 124°47.94′ W. long.;

(79) 46°02.31′ N. lat., 124°48.59′ W. long.;

(80) 45°59.01′ N. lat., 124°44.40′ W. long.;

(81) 45°46.91′ N. lat., 124°43.57′ W. long.;

(82) 45°44.05′ N. lat., 124°45.85′ W. long.;

(83) 45°39.96′ N. lat., 124°40.10′ W. long.;

(84) 45°38.27′ N. lat., 124°40.47′ W. long.;

(85) 45°34.80′ N. lat., 124°32.25′ W. long.;

(86) 45°13.00′ N. lat., 124°21.98′ W. long.;

(87) 45°09.59′ N. lat., 124°23.33′ W. long.;

(88) 45°11.35′ N. lat., 124°38.37′ W. long.;

(89) 45°00.22′ N. lat., 124°29.24′ W. long.;

(90) 44°55.28′ N. lat., 124°31.70′ W. long.;

(91) 44°41.42′ N. lat., 124°49.13′ W. long.;

(92) 44°21.46′ N. lat., 124°49.29′ W. long.;

(93) 44°12.43′ N. lat., 124°56.56′ W. long.;

(94) 43°58.92′ N. lat., 124°54.42′ W. long.;

(95) 43°50.76′ N. lat., 124°52.75′ W. long.;

(96) 43°47.22′ N. lat., 124°45.70′ W. long.;

(97) 43°43.11′ N. lat., 124°39.85′ W. long.;

(98) 43°20.19′ N. lat., 124°43.28′ W. long.;

(99) 43°13.29′ N. lat., 124°47.09′ W. long.;

(100) 43°13.17′ N. lat., 124°52.77′ W. long.;

(101) 43°05.65′ N. lat., 124°52.96′ W. long.;

(102) 43°00.03′ N. lat., 124°53.71′ W. long.;

(103) 42°53.90′ N. lat., 124°54.49′ W. long.;

(104) 42°49.50′ N. lat., 124°53.15′ W. long.;

(105) 42°47.50′ N. lat., 124°50.28′ W. long.;

(106) 42°46.21′ N. lat., 124°44.55′ W. long.;

(107) 42°41.30′ N. lat., 124°44.38′ W. long.;

(108) 42°38.83′ N. lat., 124°43.02′ W. long.;

(109) 42°31.92′ N. lat., 124°46.17′ W. long.;

(110) 42°32.11′ N. lat., 124°43.49′ W. long.;

(111) 42°31.03′ N. lat., 124°43.75′ W. long.;

(112) 42°28.42′ N. lat., 124°49.08′ W. long.;

(113) 42°20.36′ N. lat., 124°42.43′ W. long.;

(114) 42°15.35′ N. lat., 124°38.86′ W. long.;

(115) 42°09.59′ N. lat., 124°38.13′ W. long.;

(116) 42°04.56′ N. lat., 124°38.86′ W. long.;

(117) 42°04.45′ N. lat., 124°36.72′ W. long.;

(118) 41°59.98′ N. lat., 124°36.70′ W. long.;

(119) 41°47.85′ N. lat., 124°30.41′ W. long.;

(120) 41°43.34′ N. lat., 124°29.89′ W. long.;

(121) 41°23.47′ N. lat., 124°30.29′ W. long.;

(122) 41°21.30′ N. lat., 124°29.36′ W. long.;

(123) 41°13.53′ N. lat., 124°24.41′ W. long.;

(124) 41°06.72′ N. lat., 124°23.3′ W. long.;

(125) 40°54.67′ N. lat., 124°28.13′ W. long.;

(126) 40°49.02′ N. lat., 124°28.52′ W. long.;

(127) 40°40.45′ N. lat., 124°32.74′ W. long.;

(128) 40°37.11′ N. lat., 124°38.03′ W. long.;

(129) 40°34.22′ N. lat., 124°41.13′ W. long.;

(130) 40°32.90′ N. lat., 124°41.83′ W. long.;

(131) 40°31.30′ N. lat., 124°40.97′ W. long.;

(132) 40°29.63′ N. lat., 124°38.04′ W. long.;

(133) 40°24.99′ N. lat., 124°36.37′ W. long.;

(134) 40°22.23′ N. lat., 124°31.78′ W. long.;

(135) 40°16.95′ N. lat., 124°31.93′ W. long.;

(136) 40°17.59′ N. lat., 124°45.23′ W. long.;

(137) 40°13.25′ N. lat., 124°32.36′ W. long.;

(138) 40°10.16′ N. lat., 124°24.57′ W. long.;

(139) 40°6.43′ N. lat., 124°19.19′ W. long.;

(140) 40°7.07′ N. lat., 124°17.75′ W. long.;

(141) 40°5.53′ N. lat., 124°18.02′ W. long.;

(142) 40°4.71′ N. lat., 124°18.10′ W. long.;

(143) 40°2.35′ N. lat., 124°16.57′ W. long.;

(144) 40°1.53′ N. lat., 124°9.82′ W. long.;

(145) 39°58.28′ N. lat., 124°13.51′ W. long.;

(146) 39°56.60′ N. lat., 124°12.02′ W. long.;

(147) 39°55.20′ N. lat., 124°07.96′ W. long.;

(148) 39°52.55′ N. lat., 124°09.40′ W. long.;

(149) 39°42.68′ N. lat., 124°02.52′ W. long.;

(150) 39°35.96′ N. lat., 123°59.49′ W. long.;

(151) 39°34.62′ N. lat., 123°59.59′ W. long.;

(152) 39°33.78′ N. lat., 123°56.82′ W. long.;

(153) 39°33.02′ N. lat., 123°57.07′ W. long.;

(154) 39°32.21′ N. lat., 123°59.13′ W. long.;

(155) 39°7.85′ N. lat., 123°59.07′ W. long.;

(156) 39°00.90′ N. lat., 123°57.88′ W. long.;

(157) 38°59.95′ N. lat., 123°56.99′ W. long.;

(158) 38°56.82′ N. lat., 123°57.74′ W. long.;

(159) 38°56.40′ N. lat., 123°59.41′ W. long.;

(160) 38°50.23′ N. lat., 123°55.48′ W. long.;

(161) 38°46.77′ N. lat., 123°51.49′ W. long.;

(162) 38°45.28′ N. lat., 123°51.56′ W. long.;

(163) 38°42.76′ N. lat., 123°49.76′ W. long.;

(164) 38°41.54′ N. lat., 123°47.76′ W. long.;

(165) 38°40.98′ N. lat., 123°48.07′ W. long.;

(166) 38°38.03′ N. lat., 123°45.78′ W. long.;

(167) 38°37.20′ N. lat., 123°44.01′ W. long.;

(168) 38°33.44′ N. lat., 123°41.75′ W. long.;

(169) 38°29.45′ N. lat., 123°38.42′ W. long.;

(170) 38°27.89′ N. lat., 123°38.38′ W. long.;

(171) 38°23.68′ N. lat., 123°35.40′ W. long.;

(172) 38°19.63′ N. lat., 123°33.98′ W. long.;

(173) 38°16.23′ N. lat., 123°31.83′ W. long.;

(174) 38°14.79′ N. lat., 123°29.91′ W. long.;

(175) 38°14.12′ N. lat., 123°26.29′ W. long.;

(176) 38°10.85′ N. lat., 123°25.77′ W. long.;

(177) 38°13.15′ N. lat., 123°28.18′ W. long.;

(178) 38°12.28′ N. lat., 123°29.81′ W. long.;

(179) 38°10.19′ N. lat., 123°29.04′ W. long.;

(180) 38°07.94′ N. lat., 123°28.45′ W. long.;

(181) 38°06.51′ N. lat., 123°30.89′ W. long.;

(182) 38°04.21′ N. lat., 123°31.96′ W. long.;

(183) 38°02.07′ N. lat., 123°31.3′ W. long.;

(184) 38°00.00′ N. lat., 123°29.55′ W. long.;

(185) 37°58.13′ N. lat., 123°27.21′ W. long.;

(186) 37°55.01′ N. lat., 123°27.46′ W. long.;

(187) 37°51.40′ N. lat., 123°25.18′ W. long.;

(188) 37°43.97′ N. lat., 123°11.49′ W. long.;

(189) 37°36.00′ N. lat., 123°02.25′ W. long.;

(190) 37°13.65′ N. lat., 122°54.18′ W. long.;

(191) 37°00.66′ N. lat., 122°37.84′ W. long.;

(192) 36°57.40′ N. lat., 122°28.25′ W. long.;

(193) 36°59.25′ N. lat., 122°25.54′ W. long.;

(194) 36°56.88′ N. lat., 122°25.42′ W. long.;

(195) 36°57.40′ N. lat., 122°22.62′ W. long.;

(196) 36°55.43′ N. lat., 122°22.43′ W. long.;

(197) 36°52.29′ N. lat., 122°13.18′ W. long.;

(198) 36°47.12′ N. lat., 122°07.56′ W. long.;

(199) 36°47.10′ N. lat., 122°02.11′ W. long.;

(200) 36°43.76′ N. lat., 121°59.11′ W. long.;

(201) 36°38.85′ N. lat., 122°02.20′ W. long.;

(202) 36°23.41′ N. lat., 122°00.11′ W. long.;

(203) 36°19.68′ N. lat., 122°06.93′ W. long.;

(204) 36°14.75′ N. lat., 122°01.51′ W. long.;

(205) 36°09.74′ N. lat., 121°45.00′ W. long.

(206) 36°06.67′ N. lat., 121°41.06′ W. long.;

(207) 35°57.07′ N. lat., 121°34.32′ W. long.;

(208) 35°52.31′ N. lat., 121°32.45′ W. long.;

(209) 35°51.21′ N. lat., 121°30.91′ W. long.;

(210) 35°46.32′ N. lat., 121°30.30′ W. long.;

(211) 35°33.74′ N. lat., 121°20.10′ W. long.;

(212) 35°31.37′ N. lat., 121°15.23′ W. long.;

(213) 35°23.32′ N. lat., 121°11.44′ W. long.;

(214) 35°15.28′ N. lat., 121°04.45′ W. long.;

(215) 35°07.08′ N. lat., 121°00.3′ W. long.;

(216) 34°57.46′ N. lat., 120°58.23′ W. long.;

(217) 34°44.25′ N. lat., 120°58.29′ W. long.;

(218) 34°32.30′ N. lat., 120°50.22′ W. long.;

(219) 34°19.08′ N. lat., 120°31.21′ W. long.;

(220) 34°17.72′ N. lat., 120°19.26′ W. long.;

(221) 34°22.45′ N. lat., 120°12.81′ W. long.;

(222) 34°21.36′ N. lat., 119°54.88′ W. long.;

(223) 34°09.95′ N. lat., 119°46.18′ W. long.;

(224) 34°09.08′ N. lat., 119°57.53′ W. long.;

(225) 34°07.53′ N. lat., 120°06.35′ W. long.;

(226) 34°10.54′ N. lat., 120°19.07′ W. long.;

(227) 34°14.68′ N. lat., 120°29.48′ W. long.;

(228) 34°09.51′ N. lat., 120°38.32′ W. long.;

(229) 34°03.06′ N. lat., 120°35.54′ W. long.;

(230) 33°56.39′ N. lat., 120°28.47′ W. long.;

(231) 33°50.25′ N. lat., 120°09.43′ W. long.;

(232) 33°37.96′ N. lat., 120°00.08′ W. long.;

(233) 33°34.52′ N. lat., 119°51.84′ W. long.;

(234) 33°35.51′ N. lat., 119°48.49′ W. long.;

(235) 33°42.76′ N. lat., 119°47.77′ W. long.;

(236) 33°53.62′ N. lat., 119°53.28′ W. long.;

(237) 33°57.61′ N. lat., 119°31.26′ W. long.;

(238) 33°56.34′ N. lat., 119°26.4′ W. long.;

(239) 33°57.79′ N. lat., 119°26.85′ W. long.;

(240) 33°58.88′ N. lat., 119°20.06′ W. long.;

(241) 34°02.65′ N. lat., 119°15.11′ W. long.;

(242) 33°59.02′ N. lat., 119°02.99′ W. long.;

(243) 33°57.61′ N. lat., 118°42.07′ W. long.;

(244) 33°50.76′ N. lat., 118°37.98′ W. long.;

(245) 33°38.41′ N. lat., 118°17.03′ W. long.;

(246) 33°37.14′ N. lat., 118°18.39′ W. long.;

(247) 33°35.51′ N. lat., 118°18.03′ W. long.;

(248) 33°30.68′ N. lat., 118°10.35′ W. long.;

(249) 33°32.49′ N. lat., 117°51.85′ W. long.;

(250) 32°58.87′ N. lat., 117°20.36′ W. long.; and

(251) 32°35.53′ N. lat., 117°29.67′ W. long.

* * * * *

2. On pages 11218-11221, in section IV., under B. Limited Entry Fishery, Table 3 (North), Table 3 (South), Table 4 (North), and Table 4 (South) are revised to read as follows:

* * * * *

BILLING CODE 3510-22-S

* * * * *

3. On pages 11224-11225, in section IV., under C. Trip Limits in the Open Access Fishery, Table 5 (North) and Table 5 (South) are revised to read as follows:

* * * * *

* * * * *

Classification

These actions are authorized by the Pacific Coast groundfish FMP and its implementing regulations, and are based on the most recent data available. The aggregate data upon which these actions are based are available for public inspection at the Office of the Administrator, Northwest Region, NMFS, (see ADDRESSES) during business hours.

The Assistant Administrator for Fisheries (AA), NMFS, finds good cause to waive the requirement to provide prior notice and opportunity for public comment on this action pursuant to 5 U.S.C. 553(b)(3)(B), because providing prior notice and opportunity for comment would be impracticable and contrary to the public interest. The data upon which these recommendations were based was provided to the Pacific Council and the Pacific Council made its recommendations at its September 8-12, 2003 meeting in Seattle, WA. There was not sufficient time after that meeting to draft this notice and undergo proposed and final rulemaking before these actions need to be in effect as explained below. For the actions to be implemented in this notice, prior notice and opportunity for comment would be impracticable because affording prior notice and opportunity for public comment would take too long, thus impeding the Agency′s function of managing fisheries to approach without exceeding the OYs for federally managed species. For November through December, the trip limit adjustments in this document include both increases and decreases from previously scheduled trip limits, as well as implementation of a trawl RCA boundary line which approximates the 200-fm depth contour as modified to incorporate petrale sole fishing grounds. Trip limit decreases must be implemented in a timely manner to protect overfished groundfish species, such as canary rockfish, and slow the harvest of other groundfish species, such as shortspine thornyhead, thereby, ensuring harvesting opportunities without exceeding the OY for those species throughout the remainder of the year. Additionally, trip limit increases are intended to allow harvest opportunity for fisheries targeting more abundant groundfish stocks with little or no impact on overfished stocks. Implementation of the coordinates for the trawl RCA boundary line which approximates the 200-fm depth contour, as modified to allow access to the petrale sole fishing grounds during the winter months (November and December), is intended to allow fishermen access to fishing grounds in areas when and where petrale sole tend to aggregate. These are also the times and areas where flatfish trawl tows are less likely to intercept overfished groundfish species. Because the Pacific Coast groundfish fishery is managed by trip limits and area closures, most of which are based on a 2 month cumulative period (January-February, March-April, May-June, July-August, September-October, November-December), these actions must be implemented by the beginning of the next cumulative trip limit period (November 1, 2003). Otherwise, for species for which the trip limits are being reduced, fishers may be able to take the entire 2-month cumulative limit before the new lower limits are in place, thereby eliminating the conservation benefit anticipated from the lower trip limits in November and December and possibly exceeding the OY for some species. For the increases to trip limits to be effective November 1, 2003, the increased trip limits allow fishers to access groundfish allocations without exceeding the OY for those species or the OYs of overfished or depleted stocks and delaying the increase could prevent the industry from obtaining the intended benefit of increased harvest opportunity.

For these reasons, good cause also exists to waive the 30 day delay in effectiveness requirement under 5 U.S.C. 553 (d)(3). In addition, the increased trip limits relieve restrictions by allowing fishermen to harvest more fish than would have been allowed under the limits previously scheduled for the remainder of the year; thus, they are not subject to a 30 day delay in effectiveness under 5 U.S.C. 553(d)(1).

These actions are taken under the authority of 50 CFR 660.323(b)(1) and are exempt from review under Executive Order 12866.

Authority: 16 U.S.C. 1801 et seq.

Dated: October 21, 2003.
Bruce C. Morehead,
Acting Director, Office of Sustainable Fisheries, National Marine Fisheries Service.

[FR Doc. 03-26927 Filed 10-23-03; 8:45 am]

BILLING CODE 3510-22-C